ENVIRONMENTAL PROTECTION AGENCY

[EPA-HQ-OW-2016-0404; FRL-10020-61-OW]

Proposed Information Collection Request for the National Study of Nutrient Removal and Secondary Technologies: Publicly Owned Treatment Works (POTW) Screener Questionnaire

AGENCY: Environmental Protection Agency (EPA).

ACTION: Notice.

SUMMARY: The Environmental Protection Agency (EPA) plans to submit an information collection request (ICR), “Information Collection Request for the National Study of Nutrient Removal and Secondary Technologies: Publicly Owned Treatment Works (POTW) Screener Questionnaire (Renewal)” (EPA ICR No. 2553.01, OMB Control No. 2040 0294) to the Office of Management and Budget (OMB) for review and approval in accordance with the Paperwork Reduction Act (PRA). Before doing so, EPA is soliciting public comments on specific aspects of the proposed information collection as described below. This is a proposed extension of the ICR, which is currently approved through July 31, 2021. An Agency may not conduct or sponsor and a person is not required to respond to a collection of information unless it displays a currently valid OMB control number.

DATES: Comments must be submitted on or before April 26, 2021.

ADDRESSES: Submit your comments, referencing Docket ID No. EPA-HQ-OW-2016-0404 online using www.regulations.gov (our preferred method), by email to OW-Docket@epa.gov, Attention Docket ID No. EPA-HQ-OW-2016-0404, or by mail to: EPA Docket Center, Environmental Protection Agency, Mail Code 28221T, 1200 Pennsylvania Ave. NW, Washington, DC 20460.

EPA's policy is that all comments received will be included in the public docket without change including any personal information provided, unless the comment includes profanity, threats, information claimed to be Confidential Business Information (CBI) or other information whose disclosure is restricted by statute.

FOR FURTHER INFORMATION CONTACT: Dr. Paul Shriner, Engineering and Analysis Division (4303T), Environmental Protection Agency, 1200 Pennsylvania Ave. NW, Washington, DC 20460; telephone number: 202-566-1076; email address: nutrient-removal-study@epa.gov.

SUPPLEMENTARY INFORMATION: Supporting documents are available in the public docket for this ICR that explain in detail the information that the EPA will be collecting. The docket can be viewed online at www.regulations.gov or in person at the EPA Docket Center, WJC West, Room 3334, 1301 Constitution Ave. NW, Washington, DC. The telephone number for the Docket Center is 202-566-1744. For additional information about EPA's public docket, visit http://www.epa.gov/dockets.

Pursuant to section 3506(c)(2)(A) of the PRA, EPA is soliciting comments and information to: (i) Evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., permitting electronic submission of responses. EPA will consider the comments received and amend the ICR as appropriate. The final ICR package will then be submitted to OMB for review and approval. At that time, EPA will issue another Federal Register notice to announce the submission of the ICR to OMB and the opportunity to submit additional comments to OMB.

Abstract:

Nutrient pollution remains the single greatest challenge to our Nation's water quality and presents a growing threat to public health and local economies—contributing to toxic harmful algal blooms, contamination of drinking water sources, and costly impacts on recreation, tourism and fisheries. The multi-phase study described here, when completed, will provide a rich database of nutrient removal performance at secondary treatment POTWs nationwide, and will help POTWs understand the range of nutrient removal performance and identify opportunities to optimize nutrient removals based on data from their peers. It will also serve as a major new resource for POTWs, states and other stakeholders to evaluate the most cost-effective approaches to nutrient reduction at the watershed scale. With these objectives in mind, EPA's Office of Water is collecting data to evaluate the nutrient removals and related technology performance of POTWs with conventional secondary treatment. For the purposes of this study “conventional secondary treatment” are those processes used by industry to meet the regulatory requirements for secondary treatment.

The goals of this study are to establish a baseline of nutrient performance nationally for secondary treatment facilities and to document the capability of POTWs to reduce nutrient discharges by implementing changes to operations and maintenance, without making extensive capital investments. The full study would be conducted in multiple phases, allowing for interactions with stakeholders and experts in each phase. The first phase of the study is a screener questionnaire, the renewal of which is the focus of this ICR.

Due to multiple delays, most notably postponements in fielding the screener questionnaire due to circumstances associated with the coronavirus (COVID-19) pandemic, EPA is proposing to renew the ICR for the screener questionnaire. EPA seeks to continue to update existing information on the universe of POTWs in the U.S., including tribally owned facilities, and collect basic information on the characteristics of these POTWs. The conventional secondary plants would be the focus of the second phase of study to determine how efficiently these plants remove nutrients and how enhancements to operation and maintenance have improved their performance. EPA expects to conduct future surveys of a statistically representative sample of the population of secondary treatment plants, but the exact format of these collections will be informed by the data received from this screener questionnaire.

There are no currently available datasets that identify every POTW in the country, or that identify which POTWs are conventional secondary treatment plants. Presently there are multiple, disparate databases that contain information concerning various subsets of treatment facilities; however, each of these databases is incomplete with respect to identifying all facilities. In addition, each database has missing or incomplete data fields. EPA intends to create a database of the full population of POTWs in the U.S. and use that database for further statistical study of nutrient removal performance. EPA plans to make this database publicly available, subject to confidentiality concerns that may arise.

Currently only case studies are available documenting how secondary treatment plants can reduce nutrient discharges through enhanced operation and maintenance procedures. This study would provide statistically representative data on improved nutrient removal by secondary treatment plants resulting from changes in operation and maintenance. This study would help States and POTWs agree to and set well-informed and realistic nutrient load reduction targets for wastewater treatment facilities, where appropriate, and provide information on the time and costs needed to make enhancements in operation and maintenance procedures.

EPA's Office of Water is administering the screener questionnaire, which solicits basic facility identification, characterization, and technical information necessary to develop the future detailed questionnaire, to select the sample of secondary treatment plants planned for subsequent phases of the study, and to select POTWs where future influent and effluent sampling could be conducted to document performance. The screener questionnaire is a one-time data collection. EPA would prepare a separate ICR for the subsequent phases of the study after the screener questionnaire data collection is completed and the sample frame for the subsequent phases is developed.

EPA is limiting the information requested by the screener questionnaire to that which is necessary to identify the complete population of POTWs and to identify basic information about that population. Questions include those necessary to identify and stratify the universe of POTWs and, within that population, the secondary treatment POTWs not designed specifically to remove nitrogen and phosphorus. The screener is user-friendly and makes use of multiple choice, yes/no questions, drop down menus, and checkboxes from which respondents will choose the best answer. EPA did not include open-ended questions to minimize burden on respondents and to assist in compiling the data. A copy of the screener questionnaire is available at Docket ID No. EPA-HQ-OW-2016-0404 as part of this request for comments (see SUPPLEMENTARY INFORMATION section of this document for further information).

EPA designed the screener questionnaire as a web-based survey that POTWs can fill out and submit online. Accordingly, a separate signed certification form is not required. A hard copy of the screener questionnaire was mailed to POTWs upon request. A hard copy was also provided to POTWs in small communities where they cannot readily access the internet.

In this renewal EPA proposes three revisions to the currently approved screener questionnaire ICR and supporting statement. First, EPA has reduced the maximum number of respondents from 16,500 to 15,000. This reflects the 1,500 survey responses already received as of October 30, 2020. Second, EPA has made minor clarifying edits to the survey questions such as providing additional examples of certain technology classifications. Third, EPA is revising the respondent burden estimates. The original average burden estimate assumed it would take one hour to complete the registration process and three hours to complete the full questionnaire. EPA reviewed start and end dates and times associated with questionnaires submitted online and found that the average time to complete the long version of the online questionnaire was 1.1 hours and the time to complete the short version was 26 minutes. EPA revised the average burden to 2.25 hours for the questionnaire and 15 minutes for registration (Questionnaire Section A) based on this information. EPA solicits comment on these proposed changes. EPA is also soliciting comments on EPA's approach to refining the mailing list of POTWs, and has made a draft list available in the Docket (see SUPPLEMENTARY INFORMATION section of this document for further information).

Form Numbers: None.

Respondents/affected entities: Entities potentially affected by this action are approximately 15,000 POTWs that meet the definition under 40 CFR 403.3(q), 50 POTWs for site visits, and 100 state and/or small municipal association contacts.

Respondent's obligation to respond: Voluntary.

Estimated number of respondents: 12,000 (total).

Frequency of response: One-time data collection.

Total estimated burden: 29,980 hours (over 3 years). Burden is defined at 5 CFR 1320.03(b).

Total estimated cost: $1,496,981 (over 3 years), includes zero annualized capital or operation & maintenance costs.

Changes in Estimates: There is decrease of 37,180 hours in the total estimated respondent burden compared with the ICR currently approved by OMB. This decrease is due to screener questionnaire responses already received, reduced number of total respondents, and replacement of EPA's estimated respondent burdens with the actual time respondents took to complete the screener questionnaire.

Deborah Nagle,
Director, Office of Science and Technology, Office of Water.

[FR Doc. 2021-03757 Filed 2-23-21; 8:45 am]

BILLING CODE 6560-50-P